DEPARTMENT OF THE INTERIOR

Fish and Wildlife Service

[FWS-R6-R-2017-N072; FXRS12610600000-178-FF06R00000]

Notice of Intent to Prepare a Comprehensive Conservation Plan; Pablo, Lost Trail, and Ninepipe National Wildlife Refuges, and the Northwest Montana Wetland Management Districts, Montana

AGENCY: Fish and Wildlife Service, Interior.

ACTION: Notice of intent to prepare a comprehensive conservation plan; request for comments.

SUMMARY: We, the U.S. Fish and Wildlife Service (Service), intend to gather information necessary to prepare a draft Comprehensive Conservation Plan (CCP) and associated Environmental Assessment for Pablo, Lost Trail, and Ninepipe National Wildlife Refuges, and the Northwest Montana Wetland Management Districts, all of which are units of the National Wildlife Refuge System. The three Refuges and Wetland Management Districts are all part of the National Bison Range Complex. Elsewhere in this Federal Register, we are also publishing a revised notice of intent to prepare a draft CCP for the National Bison Range. We are accepting comments on these two notices simultaneously.

DATES: To ensure consideration, written comments must be received or postmarked on or before June 19, 2017.

ADDRESSES: If you wish to comment on the scope of the Comprehensive Conservation Plan/Environmental Assessment, you may submit your comments by any of the following methods:

Email: scoping_pablo_ninepipe@fws.gov.

U.S. Mail or Hand-Delivery: Toni Griffin, Refuge Planner, NBR CCP, 134 Union Boulevard, Lakewood, CO 80228.

FOR FURTHER INFORMATION CONTACT: Toni Griffin, Refuge Planner, by mail (see ADDRESSES), or by telephone at (303) 236-4378.

SUPPLEMENTARY INFORMATION: We, the U.S. Fish and Wildlife Service (Service), intend to gather information necessary to prepare a draft Comprehensive Conservation Plan (CCP) and associated Environmental Assessment (EA) for Pablo, Lost Trail, and Ninepipe National Wildlife Refuges, and the Northwest Montana Wetland Management Districts, all of which are units of the National Wildlife Refuge System. The three Refuges and Wetland Management Districts are all part of the National Bison Range Complex. Elsewhere in this Federal Register, we are also publishing a revised notice of intent to prepare a draft CCP for the National Bison Range. We are accepting comments on these two notices simultaneously.

Introduction

The CCP for Pablo, Lost Trail, and Ninepipe National Wildlife Refuges, and the Northwest Montana Wetland Management Districts, will describe the desired future conditions of the units and provide long-range guidance and management direction to Refuge staff on how best to achieve refuge purposes. The notice complies with our CCP policy to (1) advise other Federal and State agencies, Tribes, and the public of our intention to conduct planning on this refuge complex, and (2) to obtain suggestions and information on the scope of additional issues to consider during development of the CCP. Through the CCP, the Service intends to evaluate how it will manage Pablo, Lost Trail, and Ninepipe National Wildlife Refuges, and the Northwest Montana Wetland Management Districts.

This notice is in compliance with Service Refuge Planning policy to advise other agencies and the public of our intentions, and to obtain suggestions and information on the scope of issues to be considered in the planning process. Participation in the planning process will be encouraged and facilitated by various means, including news releases and public meetings. Notification of all such meetings will be announced in the local press and on the NBR Web site: https://www.fws.gov/refuge/national_bison_range/.

Background

The National Wildlife Refuge System Administration Act of 1966, (Administration Act), as amended by the National Wildlife Refuge System Improvement Act of 1997 (16 U.S.C. 668dd-668ee), requires us to develop a CCP for each national wildlife refuge. The purpose of a CCP is to provide refuge managers with a 15-year strategy for achieving refuge purposes and contributing toward the mission of the National Wildlife Refuge System (NWRS), consistent with sound principles of fish and wildlife management, conservation, legal mandates, and Service policies. In addition to outlining broad management direction on conserving wildlife and their habitats, CCPs identify wildlife-dependent recreational opportunities available to the public, including opportunities for hunting, fishing, wildlife observation and photography, and environmental education and interpretation. We will review and update the CCP at least every 15 years in accordance with the Administration Act.

Each unit of the NWRS was established for specific purposes. We use these purposes as the foundation for developing and prioritizing the management goals and objectives for each refuge within the NWRS mission, and to determine how the public can use each refuge. The planning process is a way for us and the public to evaluate management goals and objectives that will ensure the best possible approach to wildlife, plant, and habitat conservation, while providing for wildlife-dependent recreation opportunities that are compatible with each refuge's establishing purposes and the mission of the NWRS.

We will conduct environmental review pursuant to the provisions of the National Environmental Policy Act of 1969 (42 U.S.C. 4321 et seq.), by preparing an environmental assessment (EA). The Service intends to consult with the Confederated Salish and Kootenai Tribes (CSKT) during this process.

The Service will prepare a CCP and EA that will describe how it will manage the units over the next 15 years. To facilitate sound planning and environmental assessment, the Service intends to gather information necessary for the preparation of the CCP/EA and obtain suggestions and information from other agencies and the public on the scope of issues to be addressed in the CCP/EA.

History of the Refuges and Wetland Management Districts

Ninepipe and Pablo National Wildlife Refuges were each established as easement refuges in 1921 “as a refuge and breeding ground for native birds,” (Executive Order 3503, Ninepipe; Executive Order 3504, Pablo). Lost Trail National Wildlife Refuge was established on August 24, 1999, and became the 519th refuge in the National Wildlife Refuge System. It was established for use by migratory birds, conservation of fish and wildlife resources, fish and wildlife oriented recreation, and the conservation of endangered or threatened species. Finally, the Northwest Montana Wetland Management Districts are lands acquired “as Waterfowl Production Areas” subject to “all of the provisions of [the Migratory Bird Conservation Act . . . except the inviolate sanctuary provisions” (Migratory Bird Hunting and Conservation Stamp Act, 16 U.S.C. 718). Ninepipe and Pablo National Wildlife Refuges, and the portion of the Wetland Management District in Lake County, Montana, lie within the exterior boundaries of the Flathead Indian Reservation of the Confederated Salish and Kootenai Tribes (CSKT). Members of the CSKT have a cultural, historical, or geographic connection to the land and resources of the Range.

Additional Information

The mission and purposes for which the units were established are used to develop and prioritize management goals and objectives within the National Wildlife Refuge System mission, and to guide which public uses will occur on the units of the Complex. The planning process is a way for the Service and the public to evaluate management goals and objectives for the best possible conservation efforts of this important wildlife habitat, while providing for wildlife-dependent recreation opportunities that are compatible with the Refuges' establishing purposes and the mission of the National Wildlife Refuge System.

We will conduct a comprehensive conservation planning process that will provide opportunity for tribal, State, and local governments; Federal and State agencies; organizations; and the public to participate in issue scoping and public comment. We are requesting input for issues, concerns, ideas, and suggestions for the future management of Pablo, Lost Trail, and Ninepipe National Wildlife Refuges, and the Northwest Montana Wetland Management Districts.

Public Availability of Comments

Before including your address, phone number, email address, or other personal identifying information in your comment, you should be aware that your entire comment—including your personal identifying information—may be made publicly available at any time. While you can ask us in your comment to withhold your personal identifying information from public review, we cannot guarantee that we will be able to do so.

Dated: April 25, 2017.
Noreen Walsh,
Regional Director, U.S. Fish and Wildlife Service, Denver, Colorado.

[FR Doc. 2017-10111 Filed 5-17-17; 8:45 am]

BILLING CODE 4333-15-P